DEPARTMENT OF LABOR

Employment and Training Administration

[TA-W-55,897]

Arrow Electronics, Inc., Sun Valley, CA; Notice of Termination of Investigation

Pursuant to Section 221 of the Trade Act of 1974, as amended, an investigation was initiated on November 1, 2004 in response to a petition filed by a company official on behalf of workers at Arrow Electronics, Inc., Sun Valley, California.

The petitioner requested that the petition be withdrawn. Consequently, further investigation would serve no purpose, and the investigation has been terminated.

Signed at Washington, DC this 29th day of November 2004.
Linda G. Poole,
Certifying Officer, Division of Trade Adjustment Assistance.

[FR Doc. 04-28571 Filed 12-29-04; 8:45 am]

BILLING CODE 4510-30-P